DEPARTMENT OF ENERGY

Federal Energy Regulatory Commission

Combined Notice of Filings #1

Take notice that the Commission received the following electric corporate filings:

Docket Numbers: EC17-97-000.

Applicants: HA Wind V LLC, Morgan Stanley Wind LLC.

Description: Amendment to March 22, 2017 Application for Approval Under Section 203 of the Federal Power Act of Morgan Stanley Wind LLC, et al.

Filed Date: 4/28/17.

Accession Number: 20170428-5617.

Comments Due: 5 p.m. ET 5/8/17.

Take notice that the Commission received the following exempt wholesale generator filings:

Docket Numbers: EG17-103-000.

Applicants: CPV Fairview, LLC.

Description: Notice of Self-Certification of Exempt Wholesale Generator Status of CPV Fairview, LLC.

Filed Date: 5/2/17.

Accession Number: 20170502-5152.

Comments Due: 5 p.m. ET 5/23/17.

Docket Numbers: EG17-104-000.

Applicants: Sunray Energy 2 LLC.

Description: Notice of Self-Certification of Exempt Wholesale Generator Status of Sunray Energy 2 LLC.

Filed Date: 5/3/17.

Accession Number: 20170503-5065.

Comments Due: 5 p.m. ET 5/24/17.

Docket Numbers: EG17-105-000.

Applicants: Sunray Energy 3 LLC.

Description: Notice of Self-Certification of Exempt Wholesale Generator Status of Sunray Energy 3 LLC.

Filed Date: 5/3/17.

Accession Number: 20170503-5067.

Comments Due: 5 p.m. ET 5/24/17.

Take notice that the Commission received the following electric rate filings:

Docket Numbers: ER16-2010-002; ER12-1308 009; ER15-1471-008;. ER15-1672-007; ER16-2561 002.

Applicants: Hancock Wind, LLC, Blue Sky West, LLC, Evergreen Wind Power II, LLC, Palouse Wind, LLC, Sunflower Wind Project, LLC.

Description: Notice of Non-Material Change in Status of Hancock Wind, LLC, et al.

Filed Date: 4/28/17.

Accession Number: 20170428-5619.

Comments Due: 5 p.m. ET 5/19/17.

Docket Numbers: ER17-965-001.

Applicants: PJM Interconnection, L.L.C.

Description: Compliance filing: Compliance filing per Order issued 4/7/2017 replacing placeholder effective date to be effective 1/30/2017.

Filed Date: 5/2/17.

Accession Number: 20170502-5155.

Comments Due: 5 p.m. ET 5/23/17.

Docket Numbers: ER17-1528-000.

Applicants: St. Joseph Energy Center, LLC.

Description: Petition of St. Joseph Energy Center for Waiver of MOPR Deadline.

Filed Date: 4/28/17.

Accession Number: 20170428-5534.

Comments Due: 5 p.m. ET 5/19/17.

Docket Numbers: ER17-1529-000.

Applicants: West Penn Power Company, The Potomac Edison Company, Monongahela Power Company, Trans-Allegheny Interstate Line Company, American Transmission Systems, Incorporated, PJM Interconnection, L.L.C.

Description: § 205(d) Rate Filing: ATSI et al submit Interconnection Agreement No. 2149 and ECSA SA No. 4559 to be effective 6/1/2017.

Filed Date: 5/2/17.

Accession Number: 20170502-5120.

Comments Due: 5 p.m. ET 5/23/17.

Docket Numbers: ER17-1530-000.

Applicants: Pennsylvania Grain Processing, LLC.

Description: Baseline eTariff Filing: Market-based rate application to be effective 5/3/2017.

Filed Date: 5/2/17.

Accession Number: 20170502-5121.

Comments Due: 5 p.m. ET 5/23/17.

Docket Numbers: ER17-1531-000.

Applicants: CPV Fairview, LLC.

Description: Baseline eTariff Filing: Application for Market-Based Rate Authority to be effective 7/2/2017.

Filed Date: 5/2/17.

Accession Number: 20170502-5149.

Comments Due: 5 p.m. ET 5/23/17.

Docket Numbers: ER17-1532-000.

Applicants: Golden Spread Electric Cooperative, Inc.

Description: § 205(d) Rate Filing: Amended and Restated WPC to be effective 5/3/2017.

Filed Date: 5/3/17.

Accession Number: 20170503-5029.

Comments Due: 5 p.m. ET 5/24/17.

Docket Numbers: ER17-1533-000.

Applicants: Pocahontas Prairie Wind, LLC.

Description: § 205(d) Rate Filing: CIS & Request for Cat 1 Central to be effective 5/4/2017.

Filed Date: 5/3/17.

Accession Number: 20170503-5109.

Comments Due: 5 p.m. ET 5/24/17.

Docket Numbers: ER17-1534-000.

Applicants: Southern California Edison Company.

Description: Tariff Cancellation: Notice of Cancellation of LGIA for ESEC2 Project to be effective 7/14/2017.

Filed Date: 5/3/17.

Accession Number: 20170503-5110.

Comments Due: 5 p.m. ET 5/24/17.

Docket Numbers: ER17-1535-000.

Applicants: PJM Interconnection, L.L.C.

Description: Tariff Cancellation: Notice of Cancellation of WMPA SA No. 4253, Queue No. AA1-073 to be effective 6/26/2017.

Filed Date: 5/3/17.

Accession Number: 20170503-5107.

Comments Due: 5 p.m. ET 5/24/17.

Take notice that the Commission received the following electric securities filings:

Docket Numbers: ES17-31-000.

Applicants: Ameren Transmission Company of Illinois.

Description: Application of Ameren Transmission Company of Illinois for Authorization under Federal Power Act Section 204.

Filed Date: 4/28/17.

Accession Number: 20170428-5590.

Comments Due: 5 p.m. ET 5/19/17.

Take notice that the Commission received the following public utility holding company filings:

Docket Numbers: PH17-14-000.

Applicants: IIF US Holding 2 GP, LLC.

Description: IIF US Holding 2 GP, LLC submits FERC 65-A Exemption Notification.

Filed Date: 4/28/17.

Accession Number: 20170428-5614.

Comments Due: 5 p.m. ET 5/19/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 3, 2017.
Kimberly D. Bose,
Secretary.

[FR Doc. 2017-09337 Filed 5-8-17; 8:45 am]

BILLING CODE 6717-01-P